DEPARTMENT OF COMMERCE

National Oceanic and Atmospheric Administration

RIN 0648-XV107

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Habitat Committee (HC) will hold a meeting via webinar, which is open to the public.

DATES: The webinar will be held Wednesday, October 30, 2019 at 9 a.m., Pacific Daylight Time, and will end at noon on the same day.

ADDRESSES: A public listening station is available at the Pacific Council office (address below). To attend the webinar, use this link: https://www.gotomeeting.com/webinar (click “Join” in top right corner of page); (1) Enter the Webinar ID: 536-450-845; (2) Enter your name and email address (required). You must use your telephone for the audio portion of the meeting by dialing this TOLL number: 1 (224)-501-3412; (3) Enter the Attendee phone audio access code: 536-450-845. Note: We have disabled Mic/Speakers as an option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (see https://www.gotomeeting.com/webinar/ipad-iphone-android-webinar-apps). You may send an email to Mr. Kris Kleinschmidt at Kris.Kleinschmidt@noaa.gov or contact him at (503) 820-2280, extension 411 for technical assistance.

Council address: Pacific Fishery Management Council, 7700 NE Ambassador Place, Suite 101, Portland, OR 97220-1384.

FOR FURTHER INFORMATION CONTACT: Jennifer Gilden, Pacific Council; telephone: (503) 820-2418.

SUPPLEMENTARY INFORMATION: Major topics include but are not limited to habitat-related topics, including letters for Pacific Council approval on the Central Valley Project and Klamath dam removal, the Jordan Cove Liquified Natural Gas project, Bureau of Ocean Energy Management activities, a brief planning discussion regarding southern resident killer whale habitat, and other matters.

The group may also address one or more of the Pacific Council's scheduled administrative matters, legislative matters, ecosystem topics, groundfish topics, and future workload planning. Public comments during the webinar will be received from attendees at the discretion of the HC Chair.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt (kris.kleinschmidt@noaa.gov; (503) 820-2411) at least 10 days prior to the meeting date.

Dated: October 9, 2019.
Tracey L. Thompson,
Acting Deputy Director, Office of Sustainable Fisheries, National Marine Fisheries Service.

[FR Doc. 2019-22404 Filed 10-11-19; 8:45 am]

BILLING CODE 3510-22-P